DEPARTMENT OF EDUCATION

Federal Need Analysis Methodology for the 2012-2013 Award Year

Correction

In notice document 2010-12812 appearing on pages 30139 through 30142 in the issue of Tuesday, May 24, 2011, make the following corrections:

1. On page 30139, in the third column, the last paragraph—“The IPAs for single independent students and independent students without dependents other than a spouse for award year 2012-13 are:”—should appear on page 30140 following the table “Parents of Dependent Students” and its two footnotes.

2. On page 30140, in the first column, in the table at the bottom of the column, in the table's third line of values, “$115,00 to $350,000” should read “$115,001 to $350,000”.

[FR Doc. C1-2011-12812 Filed 6-16-11; 8:45 am]

BILLING CODE 1505-01-D